DEPARTMENT OF HEALTH AND HUMAN SERVICES

Centers for Medicare & Medicaid Services

[Document Identifiers: CMS-10509]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by May 19, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806, OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for a new OMB control number); Title of Information Collection: Prospective Evaluation of Evidence-Based Community Wellness and Prevention Programs; Use: Section 4202(b) of the Affordable Care Act (ACA) mandated that we conduct an evidence review and independent evaluation of wellness programs focusing on the following six intervention areas: chronic disease self-management, increasing physical activity, reducing obesity, improving diet and nutrition, reducing falls, and mental health management. In response to the ACA mandate, we adopted a three-phase approach to evaluate the impact of wellness programs on Medicare beneficiary health, utilization, and costs to determine whether broader Medicare beneficiary participation in wellness programs could lower future growth in Medicare spending. Phase I consisted of a comprehensive literature review and environmental scan to identify a list of wellness programs for further evaluation. Phase II involved a retrospective evaluation of 10 wellness programs in the targeted intervention areas mentioned above. The purpose of the Phase II evaluation was to use Medicare claims data to assess the 10 wellness programs' impact on Medicare beneficiary outcomes including health service utilization and medical costs. The findings in Phase II were promising in that several wellness programs demonstrated the potential to save medical costs among participating beneficiaries.

Phase III of our evaluation, of which this work is the key component, aims to round out our understanding of how wellness programs affect Medicare beneficiaries and what cost saving opportunities exist for the Medicare program. This evaluation effort will (1) describe the overall distribution of readiness to engage with wellness programs in the Medicare population, (2) better adjust for selection biases of individual programs and interventions using beneficiary level survey data, (3) evaluate program impacts on health behaviors, self-reported health outcomes, and claims-based measures of utilization and costs, and (4) better describe program implementation, operations and cost in relation to the expected benefits. The results of these analyses will be used to inform wellness and prevention activities in the future.

To achieve the goals of this project, we will be conducting a nationally representative survey of Medicare beneficiaries to assess their readiness to participate in community-based wellness programs. National estimates of Medicare beneficiary demand for wellness services and benefits will be generated from this population-based readiness national survey. In addition, we will partner with evidence-based wellness programs for the purposes of enrolling an estimated 2,000 participants per program. Surveys of program participants will be conducted to assess program impacts on health and behavior.

The 60-day Federal Register notice was published on November 22, 2013 (78 FR 70059). No public comments received. During recent discussions with potential wellness programs, it was determined that the earlier response rate estimate was lower than what will be achieved. Thus, the response rate was increased, and therefore the total number of completed baseline surveys was also increased. The total estimated burden associated with completing the Participant survey has been increased. In addition, results from the cognitive testing with less than nine Medicare beneficiaries suggested that clarification for several items would also be beneficial. Questions have been added and deleted from the surveys. These clarifications have been made throughout the surveys in response to this feedback and documented in Part A, Attachment 5. Form Number: CMS-10509 (OCN: 0938-NEW); Frequency: Semi-annually; Affected Public: Individuals and households; Number of Respondents: 49,017; Total Annual Responses: 49,017; Total Annual Hours: 20,237. (For policy questions regarding this collection contact Benjamin Howell at 410-786-4942.)

Dated: April 15, 2014.
Martique Jones,
Deputy Director, Regulations Development Group, Office of Strategic Operations and Regulatory Affairs.

[FR Doc. 2014-08897 Filed 4-17-14; 8:45 am]

BILLING CODE 4120-01-P